DEPARTMENT OF THE INTERIOR

Fish and Wildlife Service

Bayou Cocodrie National Wildlife Refuge

AGENCY: Fish and Wildlife Service, Interior.

ACTION: Notice of availability of Final Comprehensive Conservation Plan for Bayou Cocodrie National Wildlife Refuge located in Concordia Parish, Louisiana.

SUMMARY: The Fish and Wildlife Service announces that a Final Comprehensive Conservation Plan for Bayou Cocodrie National Wildlife Refuge is available for distribution. The plan was prepared pursuant to the National Wildlife Refuge System Improvement Act of 1997, and in accordance with the National Environmental Policy Act of 1969, and describes how the refuge will be managed for the next 15 years. The compatibility determinations for recreational hunting, recreational fishing, wildlife observation and photography, environmental education and interpretation, forest habitat management, trapping of selected furbearers, and all-terrain vehicle use are available within the plan.

ADDRESSES: A copy of the plan may be obtained by writing to the Bayou Cocodrie National Wildlife Refuge, P.O. Box 1772, Ferriday, Louisiana 71334. The plan may also be accessed and downloaded from the Service's Internet Web site: http://southeast.fws.gov/planning/.

SUPPLEMENTARY INFORMATION: Bayou Cocodrie National Wildlife Refuge, located in east-central Louisiana, consists of 13,168 acres within a 22,269-acre acquisition boundary. The refuge includes bottomland hardwood forests, marsh or herbaceous wetlands, swamps, streams, and lakes/deep-water habitats typical of the ridge and swale topography associated with bottomland hardwoods. The high quality forests, long growing season, abundant rainfall, and geographical proximity to the Mississippi River provide habitat for a diversity of resident species, including migratory songbirds and black bears. Annually, more than 5,500 visitors participate in refuge activities.

The availability of the Draft Comprehensive Conservation Plan and Environmental Assessment, for a 60-day public review and comment period, was announced in the Federal Register on June 12, 2001, Volume 68, Number 98. The draft plan and environmental assessment identified and evaluated three alternatives for managing the refuge over the next 15 years. Under Alternative A, the “No Action Alternative,” current management of the refuge would continue, and all lands within the acquisition boundary would be purchased. Under Alternative B, the “Preferred Alternative,” 42,269 acres of refuge lands would be protected, maintained, and enhanced for migratory nongame birds, threatened and endangered species, resident wildlife, waterfowl, and shorebirds. Under “Alternative C,” 59,269 acres of refuge lands would be protected, restored, and enhanced for migratory nongame birds, threatened and endangered species, and resident wildlife. Based on the environmental assessment and the comments received, the Service adopted Alternative B, the “Preferred Alternative,” minus the large acquisition component. Internal reviewers questioned the utility of the large land acquisition component of Alternative B relative to Region-wide funding and priorities. The Service concluded that if the lands within the existing refuge acquisition boundary were prioritized for land protection and acquisition, as analyzed in Alternative A, it would best achieve national, ecosystem, and refuge-specific goals and objectives. This would include meeting source population objectives of migratory songbirds and protecting Louisiana black bear habitat within anticipated funding and staffing levels. In addition, the action positively addresses significant issues and concerns expressed by the public.

FOR FURTHER INFORMATION CONTACT: Refuge Manager, Bayou Cocodrie National Wildlife Refuge, telephone: 318/336-7119; fax: 318/336-5610; e-mail: bayoucocodrie@fws.gov; or mail (write to Refuge Manager at address in ADDRESSES section).

Authority: This notice is published under the authority of the National Wildlife Refuge System Improvement Act of 1997, Public Law 105-57.

Dated: August 7, 2004.
J. Mitch King,
Acting Regional Director.

[FR Doc. 04-22822 Filed 10-8-04; 8:45 am]

BILLING CODE 4310-55-M